FEDERAL COMMUNICATIONS COMMISSION

47 CFR Parts 1, 2, and 25

[IB Docket No. 99-67; RM No. 9165; FCC 03-283]

Equipment Authorization for Portable Earth-Station Transceivers and Out-of-Band Emission Limits for Mobile Earth Stations

AGENCY: Federal Communications Commission.

ACTION: Final rule.

SUMMARY: The Commission has amended its rules to establish a prior authorization requirement for importation, sale, lease, offering for sale or lease, or shipment or distribution for sale or lease of portable earth-station transceivers. The Commission has also revised rule provisions pertaining to responsibility for operation of earth-station transceivers and limits on out-of-band emissions from mobile earth-station transceivers.

DATES: Effective March 8, 2004, except for § 25.129 and the changes in §§ 1.1307, 2.1033, 2.1204, and 25.132, which contain information collection requirements that have not been approved by the Office of Management and Budget. The FCC will publish a document in the Federal Register announcing the effective date for those rule changes. Written comments by the public on the information collection requirements must be submitted on or before April 6, 2004. Written comments must be submitted by the Office of Management and Budget (OMB) on the proposed and/or modified information collection requirements on or before April 6, 2004.

Compliance Date: When it becomes effective, § 25.129 will require prior authorization to be obtained pursuant to application procedures specified in existing rule provisions in 47 CFR Part 2 for devices imported, sold, leased, or offered, shipped, or distributed for sale or lease after November 19, 2004.

ADDRESSES: Comments on the information collection requirements should be addressed to the Office of the Secretary, Federal Communications Commission, 445 Twelfth Street, SW., Washington, DC 20554. In addition to filing comments with the Secretary, a copy should be submitted to Judith B. Herman, Federal Communications Commission, Room 1-C804, 445 Twelfth Street, SW., Washington, DC 20554, or via Internet to Judith-B.Herman@fcc.gov, and to Kristy L. LaLonde, OMB Desk Officer, 10234 NEOB, 725 17th Street, NW., Washington, DC 20503 or via the Internet to Kristy_L._LaLonde@omb.eop.gov.

FOR FURTHER INFORMATION CONTACT: William Bell, Satellite Division, International Bureau, at (202) 418-0741. For additional information concerning the information collection requirements, contact Judith B. Herman at 202-418-0214, or via the Internet at Judith-B.Herman@fcc.gov.

SUPPLEMENTARY INFORMATION: This is a summary of the Second Report and Order in IB Docket No. 99-67, adopted on November 6, 2003, and released on November 18, 2003. The full text of the Second Report and Order is available for public inspection and copying during regular business hours at the FCC Reference Information Center, Portals II, 445 12th Street, SW., Room CY-A257, Washington, DC 20554. The document may also be purchased from the Commission's duplicating contractor, Qualex International, Portals II, 445 12th Street, SW., Room CY-B402, Washington, DC 20554, telephone 202-863-2893, facsimile 202-863-2898, or via e-mail qualexint@aol.com.

In the Second Report and Order the Commission adopted a rule that will require interested parties to obtain equipment authorization for portable earth-station transceivers pursuant to the previously-established certification procedure specified in part 2 of the Commission's rules. The certification procedure requires submission of an application and exhibits to the Commission, including test data showing that a representative sample unit meets the Commission's applicable technical requirements. Devices subject to this requirement may not be imported, sold or leased, offered for sale or lease, or shipped or distributed for sale or lease in the United States after November 19, 2004 unless a pertinent certification application has been granted and the devices are permanently marked with an FCC identification number. The prohibition against importation is modified, however, by an exception that permits travelers to carry up to three portable earth-station transceivers that have not been authorized by FCC certification into the United States as personal effects for purposes other than sale or lease. The purposes of the new certification requirement for portable GMPCS transceivers are to prevent interference, reduce radio-frequency radiation exposure risk, and make regulatory treatment of portable GMPCS transceivers consistent with treatment of similar terrestrial wireless devices, such as cellular phones. The Second Report and Order also revises several rule provisions to place appropriate legal responsibility for unauthorized transceiver operation on parties that control access to satellite networks and to eliminate redundant information-filing requirements.

In addition to adopting rules pertaining to equipment authorization and importation of portable earth-station transceivers, the Second Report and Order amended a rule section that prescribes limits on emissions from Mobile Satellite Service transceivers in the 1559-1610 MHz band. In light of comments filed in response to a Further Notice of Proposed Rulemaking released in 2002, the Commission prescribed several additional limits on such out-of-band emissions, specified measurement techniques, and set compliance deadlines for Inmarsat maritime transceivers. These rule changes improve interference protection for aeronautical radio-navigation.

The Second Report and Order imposes new information collection requirements subject to the Paperwork Reduction Act of 1995 (PRA), Public Law 104-13. It has been submitted to the Office of Management and Budget (OMB) for review under section 3507(d) of the PRA. OMB, the general public, and other Federal agencies are invited to comment on the new information collection requirements.

Paperwork Reduction Act

The Second Report and Order imposes new information collection requirements. The Commission, as part of its continuing effort to reduce paperwork burdens, invites the general public to comment on the information collection requirements as required by the Paperwork Reduction Act of 1995, Public Law 104-13. Public and agency comments on the information collection requirements are due April 6, 2004.

Final Regulatory Flexibility Analysis

The Regulatory Flexibility Act of 1980, as amended (RFA), requires that a regulatory flexibility analysis be prepared for notice-and-comment rule making proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

As proposed in a Notice of Proposed Rulemaking (NPRM) issued in 1999, the Second Report and Order in IB Docket No. 99-67 amends the Commission's rules to require authorization to be obtained in advance for importation, domestic sale or lease, or offering, shipment, or distribution for domestic sale or lease of portable, land-based earth-station transceivers. The authorization procedure, which is specified in previously adopted provisions in part 2 of the Commission's rules, requires submission of test data proving compliance with the Commission's pertinent technical requirements. The Notice of Proposed Rulemaking included an Initial Regulatory Flexibility Analysis (IRFA) pertaining to the proposed equipment-authorization requirement and invited comment on alternative authorization procedures that might minimize economic impact on small entities. The comments filed in response to the NPRM did not discuss the IRFA.

To obtain authorization required under the new rules for importation, distribution, or sale of portable, land-based earth-station transceivers, test data must be submitted to prove that the devices meet pertinent technical requirements in the Commission's rules. Because such testing would be necessary in any event to ensure that the devices can be lawfully operated in compliance with existing rule requirements, the Commission does not believe that the requirement to submit test data will have a significant adverse economic impact on anyone. The Commission postponed the effective date of the authorization requirement for one year, moreover, to afford adequate time in advance for obtaining such authorization and for disposing of uncertificated devices in current inventories. The Commission therefore certified that the equipment authorization requirement established by this order will not have significant economic impact on a substantial number of small entities.

The Second Report and Order also amends a rule section adopted in 2002, 47 CFR 25.216, that specifies out-of-band emission limits for mobile earth-station transceivers licensed to transmit in frequencies between 1610 MHz and 1660.5 MHz or in the 2 GHz MSS band. Specifically, the Second Report and Order amends § 25.216 by prescribing a limit for carrier-off emissions, prescribing limits on narrowband emissions in the 1605-1610 MHz band, prescribing a stricter limit on wideband emissions in that band for transceivers with assigned frequencies between 1626.5 MHz and 1660.5 MHz, re-specifying the time interval for emission measurements, requiring use of RMS detectors for compliance testing, and specifying compliance deadlines for Inmarsat Standard-A and Standard-B terminals.

These changes were proposed in a Further Notice of Proposed Rulemaking released with the order that initially adopted § 25.216 or in public comments filed in response to that Notice. As required by the RFA, the Further NPRM included an IRFA pertaining to these further rulemaking proposals. The Commission sought written public comment on the proposals and on the IRFA. This Final Regulatory Flexibility Analysis (FRFA) conforms to the RFA.

Rulemaking Objectives

The general purposes of the amendments to § 25.216 are to modify its provisions to better serve the objective of preventing interference with aircraft reception of satellite radio-navigation signals and establish equitable compliance deadlines for Standard A and Standard B Inmarsat earth-station transceivers.

Summary of Issues Raised by Public Comments in Response to the IRFA

No comments were filed specifically in response to the IRFA in the Further NPRM.

Description and Estimate of the Number of Small Entities to Which the New Rules Will Apply

The RFA directs agencies to describe, and, where feasible, estimate the number of, small entities that may be affected by the rules they adopt. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA). For satellite telecommunication carriers and resellers, the SBA has established a small business size standard that excludes companies with annual receipts above $12.5 million.

The amended emission limits in § 25.216 directly affect parties with licenses for operation of mobile earth stations subject to those limits, including owners of maritime vessels equipped with Standard A or Standard B Inmarsat transceivers. The Commission noted in the IRFA that ten companies held relevant blanket licenses and that four of them had annual revenue in excess of $12.5 million but could not determine from available information whether any of the others were small entities. The Commission anticipates that blanket licenses will be issued within the next three years for 2 GHz MSS earth stations subject to § 25.216, but the Commission does not know how many of the recipients will be small entities. The SBA classifies commercial providers of water transportation (other than for sightseeing) as small entities if they have 500 or fewer employees. Of 1,627 providers of non-sightseeing water transportation counted in the 1997 U.S. Census that operated throughout the year, only 157 had more than 100 employees. The SBA classifies providers of sightseeing transportation by water as small entities if their annual receipts are $6 million or less. Of 1,692 providers of sightseeing transportation by water counted in the 1997 census, only 32 had annual receipts in excess of $6 million. Hence the Commission assumes that most owners of vessels equipped with Standard A or Standard B Inmarsat transceivers are small entities.

Reporting, Recordkeeping, and Other Compliance Requirements for Small Entities

The amended provisions of section 25.216 do not impose reporting or recordkeeping requirements. Parties with licenses for operation of mobile earth stations subject to section 25.216 will be obliged to ensure that the devices perform in compliance with the amended emission limits adopted in this order, however. Some licensees may find it necessary to alter, replace, or decommission equipment currently in service in order to comply with the amended limits. We do not know, nor do the comments filed in this proceeding indicate, how much additional expense licensees will incur to achieve compliance with the amended limits.

Steps Taken To Minimize Economic Impact on Small Entities and Significant Alternatives Considered

The RFA requires an agency to describe any significant alternatives considered that might reduce the economic impact on small entities, such as establishing different compliance or reporting requirements or timetables that take into account the resources available to small entities; clarifying, consolidating, or simplifying such requirements for such small entities; using performance rather than design standards; or completely or partially exempting small entities from new requirements.

We have considered and adopted exemptions for the benefit of ship owners—most of which, we presume, for reasons stated previously, are small entities. To minimize the impact on ship owners using Inmarsat Standard A transceivers as Global Maritime Distress and Safety System (“GMDSS”) stations, we exempt such devices from the requirements of § 25.216 until December 31, 2007, the planned termination date for Standard A services. To minimize the impact on ship owners using Inmarsat Standard B transceivers as GMDSS stations, we exempt such transceivers manufactured previously or within six months hereafter from pertinent § 25.216 limits until December 31, 2012, subject to a no-interference condition.

Report to Congress: The Commission will send a copy of the Second Report and Order, including this final RFA analysis, in a report to Congress pursuant to the Congressional Review Act. In addition, the Commission will send a copy of the Second Report and Order and the final RFA analysis to the Chief Counsel for Advocacy of the SBA.

Federal Rules That Overlap, Duplicate, or Conflict With the Proposed Rules

None.

Ordering Clauses

Pursuant to sections 4(i), 301, 302(a), 303(c), 303(e), 303(f), 303(g), 303(n), and 303(r) of the Communications Act of 1934, as amended, 47 U.S.C. 4(i), 301, 302(a), 303(c), 303(e), 303(f), 303(g), 303(n), and 303(r), §§ 1.1307, 2.1033, 2.1204, 25.132, 25.135, 25.136, 25.138, and 25.216 of the Commission's rules are amended as specified in Appendix B of the report and order and a new rule § 25.129, as set forth in Appendix B of the report and order, is adopted, effective March 8, 2004, except for § 25.129 and the changes in §§ 1.1307, 2.1033, 2.1204, and 25.132, which contain information collection requirements that have not been approved by the Office of Management and Budget. The Commission will publish a document in the Federal Register announcing the effective date for these rule changes.

The Commission's Consumer and Governmental Affairs Bureau, Reference Information Center, shall send a copy of this Second Report and Order, including the Final Regulatory Flexibility analysis, to the Chief Counsel for Advocacy of the Small Business Administration.

Federal Communications Commission.
Marlene H. Dortch,
Secretary.

For the reasons stated in the preamble, the Federal Communications Commission amends 47 CFR parts 1, 2, and 25 as follows:

PART 1—PRACTICE AND PROCEDURE

1. The authority citation for part 1 continues to read:

Authority: 47 U.S.C. 151, 154(i), 154(j), 155, 225, 303(r), 309, and 325(e).

2. Section 1.1307 is amended by adding a fourth sentence to paragraph (b) to read as follows:

§ 1.1307 Actions that may have a significant environmental effect, for which Environmental Assessments (EAs) must be prepared.

* * * * *

(b) * * * Such compliance statements may be omitted from license applications for transceivers subject to the certification requirement in § 25.129 of this chapter.

* * * * *

PART 2—FREQUENCY ALLOCATIONS AND RADIO TREATY MATTERS; GENERAL RULES AND REGULATIONS

3. The authority citation for part 2 continues to read:

Authority: 47 U.S.C. 154, 302a, 303, and 336, unless otherwise noted.

4. Section 2.1033 is amended by adding paragraph (c)(17) to read as follows:

§ 2.1033 Application for certification.

* * * * *

(c) * * *

(17) Applications for certification required by § 25.129 of this chapter shall include any additional equipment test data required by that section.

* * * * *

5. Section 2.1204 is amended by adding new paragraph (a)(10) to read as follows:

§ 2.1204 Import conditions.

(a) * * *

(10) Three or fewer portable earth-station transceivers, as defined in § 25.129 of this chapter, are being imported by a traveler as personal effects and will not be offered for sale or lease in the United States.

* * * * *

PART 25—SATELLITE COMMUNICATIONS

6. The authority citation for part 25 continues to read as follows:

Authority: 47 U.S.C. 701-744. Interprets or applies Sections 4, 301, 302, 303, 307, 309 and 332 of the Communications Act, as amended, 47 U.S.C. Sections 154, 301, 302, 303, 307, 309 and 332, unless otherwise noted.

7. A new § 25.129 is added to read as follows:

§ 25.129 Equipment authorization for portable earth-station transceivers.

(a) Except as expressly permitted by § 2.803 or § 2.1204 of this chapter, prior authorization must be obtained pursuant to the equipment certification procedure in part 2, Subpart J of this chapter for importation, sale or lease in the United States, or offer, shipment, or distribution for sale or lease in the United States of portable earth-station transceivers subject to regulation under part 25. This requirement does not apply, however, to devices imported, sold, leased, or offered, shipped, or distributed for sale or lease before November 20, 2004.

(b) For purposes of this section, an earth-station transceiver is portable if it is a “portable device” as defined in § 2.1093(b) of this chapter, i.e., if its radiating structure(s) would be within 20 centimeters of the operator's body when the transceiver is in operation.

(c) In addition to the information required by § 1.1307(b) and § 2.1033(c) of this chapter, applicants for certification required by this section shall submit any additional equipment test data necessary to demonstrate compliance with pertinent standards for transmitter performance prescribed in § 25.138, § 25.202(f), § 25.204, § 25.209, and § 25.216 and shall submit the statements required by § 2.1093(c) of this chapter.

(d) Applicants for certification required by this section must submit evidence that the devices in question are designed for use with a satellite system that may lawfully provide service to users in the United States pursuant to an FCC license or order reserving spectrum.

8. Section 25.132 is amended by revising the first sentence of paragraph (a) to read as follows:

§ 25.132 Verification of earth station antenna performance standards.

(a) All applications for transmitting earth stations in the C and Ku-bands not subject to the certification requirement in § 25.129 must be accompanied by a certificate pursuant to § 2.902 of this chapter from the manufacturer of each antenna that the results of a series of radiation pattern tests performed on representative equipment in representative configurations by the manufacturer which demonstrates that the equipment complies with the performance standards set forth in § 25.209. * * *

* * * * *

9. Section 25.135 is amended by revising paragraphs (c) and (d) to read as follows:

§ 25.135 Licensing provisions for earth station networks in the non-voice, non-geostationary mobile-satellite service.

* * * * *

(c) Transceiver units in this service are authorized to communicate with and through U.S. authorized space stations only. No person without an FCC license for such operation may transmit to a space station in this service from anywhere in the United States except to receive service from the holder of a pertinent FCC blanket license or from another party with the permission of such a blanket licensee.

(d) The holder of an FCC blanket license for operation of transceivers for communication via a non-voice, non-geostationary mobile-satellite system shall be responsible for operation of any such transceiver to receive service provided by the blanket licensee or provided by another party with the blanket licensee's consent. Operators of non-voice, non-geostationary mobile-satellite systems shall not transmit communications to or from user transceivers in the United States unless such communications are authorized under a service contract with the holder of a pertinent FCC blanket license or under a service contract another party with authority for such transceiver operation delegated by such a blanket licensee.

10. Section 25.136 is amended by revising the section heading and paragraphs (b) and (c) to read as follows:

§ 25.136 Licensing provisions for user transceivers in the 1.6/2.4 GHz, 1.5/1.6 GHz, and 2 GHz Mobile Satellite Services.

* * * * *

(b) No person without an FCC license for such operation may transmit to a space station in this service from anywhere in the United States except to receive service from the holder of a pertinent FCC blanket license or from another party with the permission of such a blanket licensee.

(c) The holder of an FCC blanket license for operation of transceivers for communication via a 1.6/2.4 GHz, 1.5/1.6 GHz, or 2 GHz Mobile Satellite Service system shall be responsible for operation of any such transceiver to receive service provided by that licensee or provided by another party with the blanket licensee's consent. Operators of such satellite systems shall not transmit communications to or from user transceivers in the United States unless such communications are authorized under a service contract with the holder of a pertinent FCC blanket license for transceiver operation or under a service contract with another party with authority for such transmission delegated by such a blanket licensee.

* * * * *

11. Section 25.138 is amended by adding a third and a fourth sentence to paragraph (f) to read as follows:

§ 25.138 Blanket licensing provisions of GSO FSS Earth Stations in the 18.3-18.8 GHz (space-to-Earth), 19.7-20.2 GHz (space-to-Earth), 28.35-28.6 GHz (Earth-to-space), and 29.25-30.0 GHz (Earth-to-space) bands.

* * * * *

(f) * * * The holder of an FCC blanket license pursuant to this section shall be responsible for operation of any transceiver to receive GSO FSS service provided by that licensee or provided by another party with the blanket licensee's consent. Operators of GSO FSS systems shall not transmit communications to or from user transceivers in the United States unless such communications are authorized under a service contract with the holder of a pertinent FCC blanket license or under a service contract with another party with authority for such transceiver operation delegated by such a blanket licensee.

* * * * *

12. Section 25.216 is revised to read as follows:

§ 25.216 Limits on emissions from mobile earth stations for protection of aeronautical radionavigation-satellite service.

(a) The e.i.r.p. density of emissions from mobile earth stations placed in service on or before July 21, 2002 with assigned uplink frequencies between 1610 MHz and 1660.5 MHz shall not exceed −70 dBW/MHz, averaged over any 2 millisecond active transmission interval, in the band 1559-1587.42 MHz. The e.i.r.p. of discrete emissions of less than 700 Hz bandwidth generated by such stations shall not exceed −80 dBW, averaged over any 2 millisecond active transmission interval, in that band.

(b) The e.i.r.p. density of emissions from mobile earth stations placed in service on or before July 21, 2002 with assigned uplink frequencies between 1610 MHz and 1626.5 MHz shall not exceed −64 dBW/MHz, averaged over any 2 millisecond active transmission interval, in the band 1587.42-1605 MHz. The e.i.r.p. of discrete emissions of less than 700 Hz bandwidth generated by such stations shall not exceed −74 dBW, averaged over any 2 millisecond active transmission interval, in the 1587.42-1605 MHz band.

(c) The e.i.r.p. density of emissions from mobile earth stations placed in service after July 21, 2002 with assigned uplink frequencies between 1610 MHz and 1660.5 MHz shall not exceedq −70 dBW/MHz, averaged over any 2 millisecond active transmission interval, in the band 1559-1605 MHz. The e.i.r.p. of discrete emissions of less than 700 Hz bandwidth from such stations shall not exceed −80 dBW, averaged over any 2 millisecond active transmission interval, in the 1559-1605 MHz band.

(d) As of January 1, 2005, the e.i.r.p. density of emissions from mobile earth stations placed in service on or before July 21, 2002 with assigned uplink frequencies between 1610 MHz and 1660.5 MHz (except Standard A and B Inmarsat terminals used as Global Maritime Distress and Safety System ship earth stations) shall not exceed −70dBW/MHz, averaged over any 2 millisecond active transmission interval, in the 1559-1605 MHz band. The e.i.r.p. of discrete emissions of less than 700 Hz bandwidth from such stations shall not exceed −80 dBW, averaged over any 2 millisecond active transmission interval, in the 1559-1605 MHz band. Standard A Inmarsat terminals used as Global Maritime Distress and Safety System ship earth stations that do not meet the e.i.r.p. density limits specified in this paragraph may continue operation until December 31, 2007. Inmarsat-B terminals manufactured more than six months after Federal Register publication of the rule changes adopted in FCC 03-283 must meet these limits. Inmarsat B terminals manufactured before then are temporarily grandfathered under the condition that no interference is caused by these terminals to aeronautical satellite radio-navigation systems. The full-compliance deadline for grandfathered Inmarsat-B terminals is December 31, 2012.

(e) The e.i.r.p density of emissions from mobile earth stations with assigned uplink frequencies between 1990 MHz and 2025 MHz shall not exceed −70 dBW/MHz, averaged over any 2 millisecond active transmission interval, in frequencies between 1559 MHz and 1610 MHz. The e.i.r.p. of discrete emissions of less than 700 Hz bandwidth from such stations between 1559 MHz and 1605 MHz shall not exceed −80 dBW, averaged over any 2 millisecond active transmission interval. The e.i.r.p. of discrete emissions of less than 700 Hz bandwidth from such stations between 1605 MHz and 1610 MHz manufactured more than six months after Federal Register publication of the rule changes adopted in FCC 03-283 shall not exceed −80 dBW, averaged over any 2 millisecond active transmission interval.

(f) Mobile earth stations placed in service after July 21, 2002 with assigned uplink frequencies in the 1610-1660.5 MHz band shall suppress the power density of emissions in the 1605-1610 MHz band to an extent determined by linear interpolation from −70 dBW/MHz at 1605 MHz to −10 dBW/MHz at 1610 MHz.

(g) Mobile earth stations manufactured more than six months after Federal Register publication of the rule changes adopted in FCC 03-283 with assigned uplink frequencies in the 1610-1626.5 MHz band shall suppress the power density of emissions in the 1605-1610 MHz band-segment to an extent determined by linear interpolation from −70 dBW/MHz at 1605 MHz to −10 dBW/MHz at 1610 MHz averaged over any 2 millisecond active transmission interval. The e.i.r.p of discrete emissions of less than 700 Hz bandwidth from such stations shall not exceed a level determined by linear interpolation from −80 dBW at 1605 MHz to −20 dBW at 1610 MHz, averaged over any 2 millisecond active transmission interval.

(h) Mobile earth stations manufactured more than six months after Federal Register publication of the rule changes adopted in FCC 03-283 with assigned uplink frequencies in the 1626.5-1660.5 MHz band shall suppress the power density of emissions in the 1605-1610 MHz band-segment to an extent determined by linear interpolation from −70 dBW/MHz at 1605 MHz to −46 dBW/MHz at 1610 MHz, averaged over any 2 millisecond active transmission interval. The e.i.r.p of discrete emissions of less than 700 Hz bandwidth from such stations shall not exceed a level determined by linear interpolation from −80 dBW at 1605 MHz to −56 dBW at 1610 MHz, averaged over any 2 millisecond active transmission interval.

(i) The peak e.i.r.p density of carrier-off state emissions from mobile earth stations manufactured more than six months after Federal Register publication of the rule changes adopted in FCC 03-283 with assigned uplink frequencies between 1 and 3 GHz shall not exceed −80 dBW/MHz in the 1559-1610 MHz band averaged over any 2 millisecond active transmission interval.

(j) A Root-Mean-Square detector shall be used for all power density measurements.

[FR Doc. 04-2530 Filed 2-5-04; 8:45 am]

BILLING CODE 6712-01-P